Title 3—

The President

Memorandum of October 16, 2018

Memorandum for the Secretary of Defense [and] the Secretary of Commerce

Delegation of Authority Under Section 1604(b) of the John S. McCain National Defense Authorization Act for Fiscal Year 2019

By the authority vested in me as President by the Constitution and the laws of the United States of America, including section 301 of title 3, United States Code, I hereby delegate to the Secretary of Defense and the Secretary of Commerce the authority to transmit to the Congress the plan required by section 1604(b) of the John S. McCain National Defense Authorization Act for Fiscal Year 2019 (Public Law 115-232).

The delegation in this memorandum shall apply to any provision of any future public law that is the same or substantially the same as the provision referenced in this memorandum.

The Secretary of Defense is authorized and directed to publish this memorandum in the Federal Register.

THE WHITE HOUSE,

Washington, October 16, 2018

[FR Doc. 2018-23050

Filed 10-18-18; 11:15 am]

Billing code 5001-06-P